DEPARTMENT OF TRANSPORTATION

Federal Aviation Administration

14 CFR Part 71

[Docket No. FAA-2021-0704; Airspace Docket No. 21-AWP-32]

RIN 2120-AA66

Amendment of United States Area Navigation (RNAV) Route Q-73; Twenty Nine Palms, CA

AGENCY: Federal Aviation Administration (FAA), DOT.

ACTION: Final rule.

SUMMARY: This action amends United States Area Navigation (RNAV) route Q-73 due to the creation of Special Activity Airspace (SAA) (Bristol Air Traffic Assigned Airspace (ATCAA)) in the vicinity of Twenty Nine Palms, CA.

DATES: Effective date 0901 UTC, July 14, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Jesse Acevedo, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in the north central United States to maintain the efficient flow of air traffic.

History

The FAA published a notice of proposed rulemaking for Docket No. FAA 2021-0704 in the Federal Register (86 FR 50493; September 9, 2021), amending Q-73 in the vicinity of Twenty Nine Palms, CA, in order to provide safe segregation of air traffic around the newly created Bristol ATCAA. Interested parties were invited to participate in this rulemaking effort by submitting comments on the proposal. There were no comments received.

United States Area Navigation Routes are published in paragraph 2006 of FAA Order JO 7400.11F dated August 10, 2021, and effective September 15, 2021, which is incorporated by reference in 14 CFR 71.1. The United States Area Navigation Routes listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by amending RNAV route Q-73 due to the creation of SAA, Bristol ATCAA, in the vicinity of Twenty Nine Palms, CA. The amendment adds two additional waypoints (WPs) between LVELL and HAKMN in order to provide an adequate buffer between military activities in that area.

Q-73: Q-73 currently extends from the MOMAR, CA, WP to the CORDU, ID, WP. The FAA is adding two WPs, the BLKWL, CA, WP, between the LVELL, CA, WP and the ZELMA, CA, WP, and the KRLIE, CA, WP, between the ZELMA, CA, WP and the HAKMN, NV, WP. The new WPs will provide safe segregation of air traffic along Q-73 from military aircraft operating within the adjacent SAA. The rest of the route would remain unchanged.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of amending RNAV route Q-73 due to the creation of SAA, Bristol ATCAA, in the vicinity of Twenty Nine Palms, CA qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11F, Airspace Designations and Reporting Points, dated August 10, 2021, and effective September 15, 2021, is amended as follows:

Paragraph 2006 United States Area Navigation Routes

* * * * *

Q-73 MOMAR, CA to CORDU, ID [Amended]
MOMAR, CA | Fix | (Lat. 33°30′54.13″ N, long. 115°56′40.14″ W)
LVELL, CA | WP | (Lat. 34°12′37.38″ N, long. 115°36′53.25″ W)
BLKWL, CA | WP | (Lat. 34°22′01.06″ N, long. 115°29′56.81″ W)
ZELMA, CA | WP | (Lat. 34°46′59.99″ N, long. 115°19′47.51″ W)
KRLIE, CA | WP | (Lat. 35°08′24.42″ N, long. 115°13′59.57″ W)
HAKMN, NV | WP | (Lat. 35°30′28.31″ N, long. 115°04′47.04″ W)
LAKRR, NV | WP | (Lat. 36°05′07.72″ N, long. 114°17′09.16″ W)
GUNTR, AZ | WP | (Lat. 36°24′39.65″ N, long. 114°02′11.55″ W)
ZAINY, AZ | WP | (Lat. 36°39′24.73″ N, long. 113°54′03.50″ W)
EEVUN, UT | WP | (Lat. 37°02′52.90″ N, long. 113°42′42.56″ W)
WINEN, UT | WP | (Lat. 37°56′00.00″ N, long. 113°30′00.00″ W)
CRITO, NV | WP | (Lat. 39°18′00.00″ N, long. 114°33′00.00″ W)
BROPH, ID | WP | (Lat. 42°43′15.71″ N, long. 114°52′31.80″ W)
DERSO, ID | WP | (Lat. 43°21′42.63″ N, long. 115°08′01.66″ W)
ZATIP, ID | WP | (Lat. 46°13′17.48″ N, long. 116°31′37.57″ W)
CORDU, ID | Fix | (Lat. 48°10′46.41″N, long. 116°40′21.84″W)

* * * * *

Issued in Washington, DC, on April 20, 2022.
Scott M. Rosenbloom,
Manager, Airspace Rules and Regulations.

[FR Doc. 2022-08897 Filed 4-26-22; 8:45 am]

BILLING CODE 4910-13-P